DEPARTMENT OF DEFENSE

Office of the Secretary

[Docket ID: DoD-2023-HA-0102]

Proposed Collection; Comment Request

AGENCY: Office of the Assistant Secretary of Defense for Health Affairs (OASD(HA)), Department of Defense (DoD).

ACTION: 60-Day information collection notice.

SUMMARY: In compliance with the Paperwork Reduction Act of 1995, the Defense Health Agency announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by December 19, 2023.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Defense Health Agency, 7700 Arlington Blvd., Falls Church, VA 22042, Amanda Grifka, 703-681-1771.

SUPPLEMENTARY INFORMATION:

Title; Associated Form; and OMB Number: Exceptional Family Member Program (EFMP) Pilot Program Evaluation at Travis Air Force Base Survey; OMB Control Number 0720-EFMP.

Needs and Uses: David Grant Medical Center is taking part in a pilot program for EFMP family members. The goal of this pilot program is to connect EFMP families with quality medical and non-medical resources to support and care for their family members. In this pilot program, EFMP family members at David Grant are being provided with “Care Maps” that identify resources tailored to their diagnoses. The intent of this web-based survey is to solicit feedback on the efficacy and usefulness of these resources, as well as feedback from EFMP families at David Grant that have not received specialized maps to understand their experience in obtaining EFMP care without said resources. These results will be used as part of a larger evaluation of this pilot program, and actions may be taken to continue development of the pilot program, terminate the pilot program, as well as used to identify areas of opportunity to better support EFMP families based on the feedback and insight collected about their current experience and challenges.

Affected Public: Individuals or households.

Annual Burden Hours: 183.

Number of Respondents: 1,000.

Responses per Respondent: 1.

Annual Responses: 1,000.

Average Burden per Response: 11 minutes.

Frequency: On occasion.

Dated: October 16, 2023.
Aaron T. Siegel,
Alternate OSD Federal Register Liaison Officer, Department of Defense.

[FR Doc. 2023-23139 Filed 10-19-23; 8:45 am]

BILLING CODE 6001-FR-P